DEPARTMENT OF ENERGY

Federal Energy Regulatory Commission

[Docket Nos. EC06-19-000, et al.]

Dynegy, Inc., et al.; Electric Rate and Corporate Filings

November 3, 2005.

The following filings have been made with the Commission. The filings are listed in ascending order within each docket classification.

1. Dynegy, Inc.; Dynegy Holdings Inc.; DMT Holdings, Inc.; Dynegy Power Corp.; Dry Creek Power, Inc.; and Rockingham Power, L.L.C.

[Docket No. EC06-19-000]

Take notice that on October 31, 2005, Dynegy Inc., Dynegy Holdings Inc., DMT Holdings, Inc., Dynegy Power Corp., Dry Creek Power, Inc. (Dry Creek) and Rockingham Power, L.L.C. (Rockingham) (collectively, Applicants) submitted an application pursuant to section 203 of the Federal Power Act for authorization of a disposition of jurisdictional facilities pursuant to an intra corporate reorganization that results in Rockingham merging with its parent company, Dry Creek, with Rockingham being the surviving entity (the Transaction). Applicants state that the Transaction as an intra corporate restructuring would be accomplished pursuant to an authorizing board resolutions, an agreement of merger and a certificate of merger.

Comment Date: 5 p.m. Eastern Time on November 21, 2005.

2. White Pine Electric Power, L.L.C.

[Docket Nos. EC06-20-000]

Take notice that on November 1, 2005, White Pine Electric Power, L.L.C. (White Pine Electric), filed with the Federal Energy Regulatory Commission an application under section 203 of the Federal Power Act, requesting approval of the transfer of ultimate upstream control of its jurisdictional facilities to Pegasus Partners III (International Holdings), L.P. (Pegasus), a private equity fund located in Cos Cob, Connecticut, Kelso Investment Associates VII, L.P. and KEP VI, LLC (the Kelso Funds), private equity investment funds managed by Kelso & Company, a company located in New York, NY, Newco I LLC, a limited liability company to be formed under the laws of Anguilla and owned by certain members of Traxys S.A.'s management, and Newco II LLC, a limited liability company to be formed under the laws of Anguilla and owned by certain members of Traxys S.A.'s management (together with Newco I LLC, the Management Members).

Comment Date: 5 p.m. Eastern Time on November 22, 2005.

3. Select Energy, Inc.; Constellation Energy Commodities; Group, Inc.

[Docket No. EC06-21-000]

Take notice that on October 31, 2005, Select Energy, Inc. (Select), and Constellation Energy Commodities Group, Inc. (collectively, the Applicants) filed a joint application pursuant to section 203 of the Federal Power Act for disposition of certain wholesale power sales contracts of Select.

Comment Date: 5 p.m. Eastern Time on November 22, 2005.

4. TransAlta Energy Marketing (U.S.) Inc.

[Docket No. EL03-125-000]

Bonneville Power Administration

[Docket No. NJ05-2-002]

Take notice that on October 24, 2005, Bonneville Power Administration (BPA), tendered for filing revisions of its open access transmission tariff in compliance with the above proceeding. BPA further states that it also included a certificate of service on the parties in the above-captioned proceedings.

Comment Date: 5 p.m. Eastern Time on November 23, 2005.

5. Entergy Services, Inc.

[Docket No. ER03-753-004]

Take notice that on September 30, 2005, Entergy Services, Inc., acting as agent for Entergy New Orleans, Inc. (ENO), Entergy Gulf States, Inc. (EGS), and Entergy Louisiana, Inc. (ELI), tendered for filing a notice that ENO has entered into transactions with EGS and ELI pursuant to Service Schedule MSS-4 of the Entergy System Agreement.

Comment Date: 5 p.m. Eastern Time on November 14, 2005.

6. Devon Power LLC

[Docket No. ER04-23-015]

Take notice that on October 11, 2005, Devon Power LLC, Middletown Power LLC and Montville Power LLC (collectively, the NRG Companies), pursuant to a deficiency letter issued on July 13, 2005 submitted for filing a reconciliation of their annual informational filing.

Comment Date: 5 p.m. Eastern Time on November 23, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-6182 Filed 11-9-05; 8:45 am]

BILLING CODE 6717-01-P